DEPARTMENT OF THE INTERIOR

National Park Service

Notice of Inventory Completion for Native American Human Remains and Associated Funerary Objects in the Possession of the U.S. Department of Defense, National Museum of Health and Medicine, Armed Forces Institute of Pathology, Washington, DC

AGENCY: National Park Service, Interior.

ACTION: Notice.

Notice is hereby given in accordance with provisions of the Native American Graves Protection and Repatriation Act (NAGPRA), 43 CFR 10.9, of the completion of an inventory of human remains and associated funerary objects in the possession of the U.S. Department of Defense, National Museum of Health and Medicine, Armed Forces Institute of Pathology (formerly the Army Medical Museum), Washington, DC.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by National Museum of Health and Medicine, Armed Forces Institute of Pathology professional staff in consultation with representatives of Blackfeet Tribe of the Blackfeet Indian Reservation of Montana.

In 1873, human remains representing one individual were sent to the National Museum of Health and Medicine, Armed Forces Institute of Pathology by U.S. Army Assistant Surgeon John D. Hall of Fort Benton, Chouteau County, MT. In 1872, the individual received a leg wound in battle with Crow Indians, and traveled to Fort Benton where the injured leg was amputated by Assistant Surgeon Hall. The individual is identified as Nap-pan-na-qua (also noted in the accession records as “White Man”). No associated funerary objects are present.

In 1869, human remains representing one individual were collected from Three Buttes, MT, by U.S. Army Assistant Surgeon Elliot Coues. The individual was killed by Assiniboin Indians at Three Buttes. Also in 1869, Assistant Surgeon Coues sent the remains to the Smithsonian Institution. In 1874, the remains were transferred from the Smithsonian Institution to the National Museum of Health and Medicine, Armed Forces Institute of Pathology. No known individual was identified. No associated funerary objects are present.

Based on accession records of the National Museum of Health and Medicine, Armed Forces Institute of Pathology, the individuals have been determined to be Native American. Accession records also indicate that the individuals were Peigan Indian males. Biological evidence of the individuals' injuries is consistent with the accession file information. Historically, the Piegan were a constituent band of the Blackfeet which are now recognized as the Blackfeet Tribe of the Blackfeet Indian Reservation of Montana. To date, consultation with the Blackfeet Tribe of the Blackfeet Indian Reservation of Montana has not identified a lineal descendent.

Based on the above-mentioned information, officials of the National Museum of Health and Medicine, Armed Forces Institute of Pathology have determined that, pursuant to 43 CFR 10.2 (d)(1), the human remains listed above represent the physical remains of two individuals of Native American ancestry. Officials of the National Museum of Health and Medicine, Armed Forces Institute of Pathology also have determined that, pursuant to 43 CFR 10.2 (e), there is a relationship of shared group identity that can be reasonably traced between these Native American human remains and the Blackfeet Tribe of the Blackfeet Indian Reservation of Montana.

This notice has been sent to officials of the Blackfeet Tribe of the Blackfeet Indian Reservation of Montana. Representatives of any other Indian tribe that believes itself to be culturally affiliated with these human remains should contact Lenore Barbian, Ph.D., Assistant Curator, Anatomical Collections, National Museum of Health and Medicine, Armed Forces Institute of Pathology, Walter Reed Army Medical Center, Building 54, Washington, DC 20306-6000, telephone (202) 782-2203, before June 4, 2001. Repatriation of the human remains to the Blackfeet Tribe of the Blackfeet Indian Reservation of Montana may begin after that date if no additional claimants come forward.

Dated: April 11, 2001.
John Robbins,
Assistant Director, Cultural Resources Stewardship and Partnerships.

[FR Doc. 01-11138 Filed 5-2-01; 8:45 am]

BILLING CODE 4310-70-F